ENVIRONMENTAL PROTECTION AGENCY

[CERCLA 01-2021-0006; FRL-10018-25-Region 1]

Proposed CERCLA Administrative Cost Recovery Settlement: Jones and Lamson Site, Springfield, Vermont

AGENCY: Environmental Protection Agency (EPA).

ACTION: Notice of proposed settlement; request for public comments.

SUMMARY: Notice is hereby given of a proposed administrative cost settlement for recovery of response costs concerning the Jones and Lamson Site, located in Springfield, Windsor County, Vermont, with the Settling Party, Textron Inc. The proposed settlement requires the Settling Party to pay EPA $662,500 plus interest to settle EPA's claim for recovery of past response costs, which amount to approximately $830,000. In exchange, EPA will provide the Settling Party with a covenant not to sue for past costs. The settlement has been approved by the Environmental and Natural Resources Division of the United States Department of Justice. For 30 days following the date of publication of this notice, the Agency will receive written comments relating to the settlement for recovery of response costs. The Agency will consider all comments received and may modify or withdraw its consent to this cost recovery settlement if comments received disclose facts or considerations which indicate that the settlement is inappropriate, improper, or inadequate. The Agency's response to any comments received will be available for public inspection at the Environmental Protection Agency—Region I, 5 Post Office Square, Suite 100, Boston, MA 02109-3912.

DATES: Comments must be submitted by April 1, 2021.

ADDRESSES: Comments should be addressed to Joy Sun, Senior Enforcement Counsel, Office of Regional Counsel, U.S. Environmental Protection Agency, 5 Post Office Square, Suite 100 (04-2), Boston, MA 02109-3912, (617) 918-1018, sun.joy@epa.gov, and should reference the Jones and Lamson Site, U.S. EPA Docket No: CERCLA 01-2021-0006.

FOR FURTHER INFORMATION CONTACT: A copy of the proposed settlement may be obtained from Stacy Greendlinger, Superfund and Emergency Management Division, U.S. Environmental Protection Agency, Region I, 5 Post Office Square, Suite 100 (02-2), Boston, MA 02109-3912, telephone number: (617) 918-1403, email address: greendlinger.stacy@epa.gov. Direct technical questions to Stacy Greendlinger and legal questions to Joy Sun, Office of Regional Counsel, U.S. Environmental Protection Agency, Region I, 5 Post Office Square, Suite 100 (04-2), Boston, MA 02109-3912, telephone number: (617) 918-1018, email address: sun.joy@epa.gov.

SUPPLEMENTARY INFORMATION: This proposed administrative settlement for recovery of past response costs concerning the Jones and Lamson Site, located in Springfield, Windsor County, Vermont, is made in accordance with Section 122(h)(l) of the Comprehensive Environmental Response, Compensation, and Liability Act (CERCLA). EPA covenants not to sue or take administrative action against the Settling Party, Textron Inc., pursuant to Section 107(a) of CERCLA, 42 U.S.C. 9607(a), for Past Response Costs. In exchange, the Settling Party agrees to pay EPA $662,500, plus interest on that amount calculated from the Effective Date through the date of payment. Payment of such amount shall be due within 30 days after the Effective Date. For 30 days following the date of publication of this notice, the Agency will receive written comments relating to the settlement for recovery of response costs. The Effective Date of the Agreement is the date upon which EPA notifies Textron Inc. that the public comment period has closed and that such comments, if any, do not require that EPA modify or withdraw from the Agreement.

Bryan Olson,
Director, Superfund and Emergency Management Division.

[FR Doc. 2021-04247 Filed 3-1-21; 8:45 am]

BILLING CODE 6560-50-P